DEPARTMENT OF DEFENSE

Department of the Army

Board of Visitors, United States Military Academy (USMA)

AGENCY: Department of the Army, DOD.

ACTION: Notice; correction.

SUMMARY: The notice of an open meeting scheduled for July 15, 2005 published in the Federal Register on June 10, 2005 (70 FR 33884) has a new meeting place. The meeting will now be held at the Kimsey Athletic Center, West Conference Room, 4th Floor, West Point, NY.

FOR FURTHER INFORMATION CONTACT: Lieutenant Colonel Shaun T. Wurzbach, United States Military Academy, West Point, NY 10996-5000, (845) 938-4200.

SUPPLEMENTARY INFORMATION: None.

Brenda S. Bowen,
Army Federal Register Liaison Officer.

[FR Doc. 05-13020 Filed 6-30-05; 8:45 am]

BILLING CODE 3710-08-M